FEDERAL COMMUNICATIONS COMMISSION

47 CFR Part 73

[DA 05-2007; MB Docket No. 05-129; RM-11201]

Radio Broadcasting Services; Jacksonville, TX

AGENCY: Federal Communications Commission.

ACTION: Final rule.

SUMMARY: In response to a Notice of Proposed Rule Making, 70 FR 19403 (April 13, 2005) this Report and Order grants the proposal to allot Channel 236A to Jacksonville, Texas and also grants requests to relocate the transmitter sites of vacant Channels 237C3, Teague, Texas and 237A, Meridian, Texas, to accommodate the allotment of Channel 236A to Jacksonville. The coordinates for Channel 236A at Jacksonville, Texas are 31-54-15 North Latitude and 95-17-42 West Longitude, with a site restriction of 7.0 kilometers (4.3 miles) east of Jacksonville. The new allotment coordinates of vacant Channel 237C3 at Teague, Texas, are 31-48-30 North Latitude and 96-14-00 West Longitude, with a site restriction of 20.7 kilometers (12.8 miles) north of Teague, Texas. The new allotment coordinates of vacant Channel 237A, Meridian, Texas, are 32-00-00 North Latitude and 97-43-00 West Longitude, with a site restriction of 10.3 kilometers (6.4 miles) northwest of Meridian, Texas.

DATES: Effective August 29, 2005.

FOR FURTHER INFORMATION CONTACT: R. Barthen Gorman, Media Bureau, (202) 418-2180.

SUPPLEMENTARY INFORMATION: This is a synopsis of the Commission's Report and Order, MB Docket No. 05-129, adopted July 13, 2005, and released July 15, 2005.

The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202-863-2893, facsimile 202-863-2898, or via e-mail qualexint@aol.com. The Commission will send a copy of this Report and Order in a report to be sent to Congress and the Government Accountability Office pursuant to the Congressional Review Act, see 5 U.S.C. 801(a)(1)(A).

List of Subjects in 47 CFR Part 73

Radio, Radio broadcasting.

Part 73 of title 47 of the Code of Federal Regulations is amended as follows:

PART 73—[AMENDED]

1. The authority citation for part 73 reads as follows:

Authority: 47 U.S.C. 154, 303, 334, and 336.

§ 73.202 [Amended]

2. Section 73.202(b), the Table of FM Allotments under Texas, is amended by adding Channel 236A to Jacksonville.

Federal Communications Commission.
John A. Karousos,
Assistant Chief, Audio Division, Media Bureau.

[FR Doc. 05-15128 Filed 8-2-05; 8:45 am]

BILLING CODE 6712-01-P